DEPARTMENT OF DEFENSE

Department of the Air Force

[Docket ID: USAF-2013-0025]

Proposed Collection; Comment Request

AGENCY: Department of Defense, Department of the Air Force, Air Force Personnel Center Services Directorate (AFPC/SV).

ACTION: Notice.

In compliance with Section 3506(c)(2)(A) of the Paperwork Reduction Act of 1995, the Air Force Personnel Center Services Directorate announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by July 8, 2013.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to AFPC/SVI-PM 3515 S. General McMullen Port San Antonio, TX 78241-3420 or call (210) 395-9349.

Title; Associated Form; and OMB Number: Golf Enterprise Solution (GES); automated information system (AIS); OMB Control Number 0701-TBD.

Needs and Uses: The information collection requirement is to obtain golf patron information for tee-time reservations, annual green fee dues, to send out emails, and for promotional mailers. This information is obtained electronically when a golf patron comes in to a golf course or online when a tee-time is scheduled online. There are no forms that have been generated for GES; all of the information is maintained within the point of sale (POS) & all of the electronic data resides in a secure, federal cloud. If the information was not collected, this would make daily business transactions difficult at the golf courses.

Affected Public: Individuals or households.

Annual Burden Hours: 1,667.

Number of Respondents: 50,000.

Responses per Respondent: 1.

Average Burden per Response: 2 minutes.

Frequency: On occasion.

SUPPLEMENTARY INFORMATION:

Summary of Information Collection

Respondents are golf patrons who provide business to the Air Force Golf Courses. The information is used to determine how much the golf patron has to pay (based on class and rank), schedule tee times, set-up annual green fee memberships, participate in promotional emails and mailers, and to reserve golf carts and lockers. The information is obtained electronically through the point of sale (POS) or online through the online tee sheet. The information will only need to be collected once; the POS will store the data for future use. The only time the information will be obtained again is if the information of the golf patron has changed and needs to be updated.

Dated: May 2, 2013.
Aaron Siegel,
Alternate OSD Federal Register, Liaison Officer, Department of Defense.

[FR Doc. 2013-10863 Filed 5-7-13; 8:45 am]

BILLING CODE 5001-06-P